Proclamation 9094 of March 31, 2014

National Child Abuse Prevention Month, 2014

By the President of the United States of America

A Proclamation

In the United States of America, every child should have every chance in life, every chance at happiness, and every chance at success. Yet tragically, hundreds of thousands of young Americans shoulder the burden of abuse or neglect. As a Nation, we must do better. During National Child Abuse Prevention Month, we strengthen our resolve to give every young person the security, opportunity, and bright future they deserve.

We all have a role to play in preventing child abuse and neglect and in helping young victims recover. From parents and guardians to educators and community leaders, each of us can help carve out safe places for young people to build their confidence and pursue their dreams. I also encourage Americans to be aware of warning signs of child abuse and neglect, including sudden changes in behavior or school performance, untreated physical or medical issues, lack of adult supervision, and constant alertness, as though preparing for something bad to happen. To learn more about how you can prevent child abuse, visit www.ChildWelfare.gov/Preventing.

Raising a healthy next generation is both a moral obligation and a national imperative. That is why my Administration is building awareness, strengthening responses to child abuse, and translating science and research—what we know works for kids and families—into practice. I also signed legislation to create the Commission to Eliminate Child Abuse and Neglect Fatalities, and we are providing additional resources and training to State and local governments and supporting extensive research into the causes and long-term consequences of abuse and neglect.

Our Nation thrives when we recognize that we all have a stake in each other. This month and throughout the year, let us come together—as families, communities, and Americans—to ensure every child can pursue their dreams in a safe and loving home.

NOW, THEREFORE, I, BARACK OBAMA, President of the United States of America, by virtue of the authority vested in me by the Constitution and the laws of the United States, do hereby proclaim April 2014 as National Child Abuse Prevention Month. I call upon all Americans to observe this month with programs and activities that help prevent child abuse and provide for children's physical, emotional, and developmental needs.

IN WITNESS WHEREOF, I have hereunto set my hand this thirty-first day of March, in the year of our Lord two thousand fourteen, and of the Independence of the United States of America the two hundred and thirty-eighth.

[FR Doc. 2014-07778

Filed 4-3-14; 11:15 am]

Billing code 3295-F4